SUSQUEHANNA RIVER BASIN COMMISSION

Public Hearing and Commission Meeting

AGENCY: Susquehanna River Basin Commission.

ACTION: Notice.

SUMMARY: The Susquehanna River Basin Commission will hold a public hearing as part of its regular business meeting on September 15, 2011, in Milford, New York. At the public hearing, the Commission will consider: (1) Compliance matters involving three projects; (2) the rescission of one docket approval; (3) action on certain water resources projects; and (4) action on three projects involving a diversion. Details concerning the matters to be addressed at the public hearing and business meeting are contained in the Supplementary Information section of this notice.

DATES: September 15, 2011, at 8:30 a.m.

ADDRESSES: Country Inn & Suites Cooperstown, 4470 State Highway 28, Milford, New York 13807.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net.

SUPPLEMENTARY INFORMATION: In addition to the public hearing and its related action items identified below, the business meeting also includes actions or presentations on the following items: (1) Expansion of the Remote Water Quality Monitoring Network; (2) hydrologic conditions in the basin; (3) a report on the Morrison Cove Study in the Juniata Subbasin; (4) the Maurice K. Goddard Award to Dr. Willard Harman of the SUNY Biological Station at Oneonta; (5) a possible supplemental proposed rulemaking action; (6) a preliminary introduction to dockets; (7) a capital budget and contract for acquisition of a new SRBC headquarters building; and (8) ratification/approval of grants/contracts. The Commission will also hear Legal Counsel's report.

Public Hearing—Compliance Actions:

1. Project Sponsor: Energy Corporation of America. Pad ID: Coldstream Affiliates #1MH (ABR-201007051 and ABR-201007051.1), Goshen Township, Clearfield County, Pa. and Pad ID: Whitetail #1-5MH (ABR-201008112 and ABR-201008112.1), Goshen and Girard Townships, Clearfield County, Pa.

2. Project Sponsor: Hazleton Creek Properties, LLC. Project Facility: Hazleton Mine Reclamation (Docket No. 20110307), Hazleton City, Luzerne County, Pa.

3. Project Sponsor: Keister Miller Investments, LLC. Withdrawal ID: West Branch Susquehanna River (Docket No. 20100605), Mahaffey Borough, Clearfield County, Pa.

Public Hearing—Project Scheduled for Rescission Action:

1. Project Sponsor and Facility: Lake Meade Municipal Authority (Docket No. 19911102), Reading Township, Adams County, Pa.

Public Hearing—Projects Scheduled for Action:

1. Project Sponsor: Anadarko E&P Company LP. Project Facility: Sproul State Forest—Council Run, Snow Shoe Township, Centre County, Pa. Application for groundwater withdrawal of up to 0.715 mgd from Well PW-11.

2. Project Sponsor: Borough of Ephrata. Project Facility: Ephrata Area Joint Authority, Ephrata Borough, Lancaster County, Pa. Application for groundwater withdrawal of up to 1.210 mgd from Well 1.

3. Project Sponsor and Facility: Chesapeake Appalachia, LLC (Susquehanna River), Athens Township, Bradford County, Pa. Modification to increase surface water withdrawal by an additional 0.441 mgd, for a total of 1.44 mgd (Docket No. 20080906).

4. Project Sponsor and Facility: Chesapeake Appalachia, LLC (Susquehanna River), Terry Township, Bradford County, Pa. Modification to increase surface water withdrawal by an additional 0.441 mgd, for a total of 1.44 mgd (Docket No. 20090605).

5. Project Sponsor and Facility: EXCO Resources (PA), LLC (Pine Creek), Porter Township, Lycoming County, Pa. Application for surface water withdrawal of up to 2.000 mgd.

6. Project Sponsor: Graymont (PA), Inc. Project Facility: Pleasant Gap Facility, Spring Township, Centre County, Pa. Application for groundwater withdrawal of up to 0.660 mgd from Well I-5 (McJunkin Well Field).

7. Project Sponsor: Hazelton Creek Properties, LLC. Project Facility: Hazelton Mine Reclamation, Hazelton City, Luzerne County, Pa. Modification to increase consumptive water use approval by 0.145 mgd, for a total of 0.200 mgd (Docket No. 20110307).

8. Project Sponsor and Facility: J-W Operating Company (Sterling Run), Lumber Township, Cameron County, Pa. Modification to conditions of the surface water withdrawal approval (Docket No. 20090330).

9. Project Sponsor and Facility: M & P Energy Services Inc. (Susquehanna River), Briar Creek Borough, Columbia County, Pa. Application for surface water withdrawal of up to 0.999 mgd.

10. Project Sponsor: Mayor and City Council of Baltimore. Project Facility: Maryland Water Supply System, Halls Cross Roads District, Harford County, Md. Modification to conditions of the surface water withdrawal approval (Docket No. 20010801).

11. Project Sponsor: Mayor and City Council of Baltimore. Project Facility: Maryland Water Supply System, Halls Cross Roads District, Harford County, Md. Modification to conditions of the consumptive water use approval (Docket No. 20010801).

12. Project Sponsor: Milton Regional Sewer Authority. Project Facility: Wastewater Treatment Plant, Milton Borough and West Chillisquaque Township, Northumberland County, Pa. Application for withdrawal of treated wastewater effluent of up to 0.864 mgd.

13. Project Sponsor and Facility: Pennsylvania General Energy Company, L.L.C. (West Branch Susquehanna River), Pine Creek Township, Clinton County, Pa. Application for surface water withdrawal of up to 0.400 mgd.

14. Project Sponsor and Facility: Seneca Resources Corporation (Marsh Creek), Delmar Township, Tioga County, Pa. Application for surface water withdrawal of up to 0.499 mgd.

15. Project Sponsor and Facility: Southwestern Energy Production Company, Herrick Township, Bradford County, Pa. Application for groundwater withdrawal of up to 0.101 mgd from the Fields Supply Well.

16. Project Sponsor and Facility: Stanley S. Karp Sr. (Tunkhannock Creek), Nicholson Borough, Wyoming County, Pa. Application for surface water withdrawal of up to 0.510 mgd.

17. Project Sponsor and Facility: Susquehanna Gas Field Services, LLC. (Meshoppen Creek), Meshoppen Borough, Wyoming County, Pa. Modification to project features and conditions of the surface water withdrawal approval (Docket No. 20090628).

18. Project Sponsor: Susquehanna Gas Field Services, LLC. Project Facility: Meshoppen Pizza Well, Meshoppen Borough, Wyoming County, Pa. Modification to project features and conditions of the groundwater withdrawal approval (Docket No. 20100612).

19. Project Sponsor and Facility: William C. Wingo (Wingo Ponds), Ulysses Township, Potter County, Pa. Application for surface water withdrawal of up to 0.099 mgd.

20. Project Sponsor and Facility: XTO Energy, Inc. (West Branch Susquehanna River), Chapman Township, Clinton County, Pa. Application for surface water withdrawal of up to 2.000 mgd.

Public Hearing—Projects Scheduled for Action Involving a Diversion:

1. Project Sponsor: Mayor and City Council of Baltimore. Project Facility: Maryland Water Supply System, Halls Cross Roads District, Harford County, Md. Modification to conditions of the diversion approval (Docket No. 20010801).

2. Project Sponsor: SWEPI, LP. Project Facility: Pennsylvania American Water Company—Warren District, Warren City, Warren County, Pa. Application for an into-basin diversion of up to 3.000 mgd from the Ohio River Basin.

3. Project Sponsor: EQT Production Company. Project Facility: Franco Freshwater Impoundment, Washington Township, Jefferson County, Pa. Application for an into-basin diversion of up to 0.482 mgd from the Ohio River Basin.

Opportunity To Appear and Comment:

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@srbc.net or Stephanie L. Richardson, Secretary to the Commission, e-mail: srichardson@srbc.net. Comments mailed or electronically submitted must be received prior to September 9, 2011, to be considered.

Authority: Public Law 91-575, 84 Stat. 1509 et seq., 18 CFR Parts 806, 807, and 808.

Dated: August 12, 2011.
Thomas W. Beauduy,
Deputy Executive Director.

[FR Doc. 2011-21569 Filed 8-23-11; 8:45 am]

BILLING CODE 7040-01-P